DEPARTMENT OF DEFENSE

Department of the Army, Corps of Engineers

Draft Environmental Impact Statement for the Proposed Destination Broadwater Resort, Biloxi, MS

AGENCY: Army Corps of Engineers, Mobile District, DoD.

ACTION: Notice of availability.

SUMMARY: This notice of availability announces the public release of the Draft Environmental Impact Statement (EIS) for the Proposed Destination Broadwater Resort, Biloxi, Mississippi. On August 18, 1998, President Casinos, LLC submitted a Joint Permit Application and Notification to the US Army Corps of Engineers, Mobile District, the Mississippi Department of Environmental Quality, Office of Pollution Control and the Mississippi Department of Marine Resources for the Destination Broadwater project. The proposed action involves the redevelopment and construction of a large-scale casino destination resort at the existing Broadwater Resort and President Casino adjacent to US Highway 90 in Biloxi, Harrison County, Mississippi. Based on a review of the level of impacts associated with the proposed action, the Mobile District published a Notice of Intent to Prepare an Environmental Impact Statement on May 11, 1999. The Draft EIS has been developed by the Corps of Engineers (lead agency) and eight cooperating Federal and state agencies. The Draft EIS provides a comprehensive environmental analysis to aid in the decision-making process to deny or approve the Department of the Army permit for the proposed Destination Broadwater Project.

DATES: The public comment period for the Draft EIS will extend through July 17, 2000.

ADDRESSES: To receive a copy of the Draft EIS, or to submit comments, contact U.S. Army Corps of Engineers, Mobile District, Coastal Environment Team, Post Office Box 2288, Mobile, AL 36628-0001. A copy of the full document may also be viewed in the library in Biloxi, Mississippi or in the Mobile District.

FOR FURTHER INFORMATION CONTACT: Susan Ivester Rees, Ph.D., EIS Manager, (334) 694-4141, facsimile number (334) 690-2727 or e-mail address (susan.1.rees@sam.usace.army.mil).

SUPPLEMENTARY INFORMATION: Public comments can be submitted through a variety of methods. Written comments may be submitted to the Corps by mail, facsimile, or electronic methods, comments (written or oral) may be presented at a public meeting to be scheduled during the month of July, 2000 in Biloxi, Mississippi. Additional information on these meetings will be mailed in a public notice to the agencies and the public and announced in news releases.

John A. Hall,
Alternate Army Federal Register Liaison Officer.

[FR Doc. 00-13576 Filed 5-30-00; 8:45 am]

BILLING CODE 3710-CR-M